FEDERAL COMMUNICATIONS COMMISSION

Notice of Public Information Collection(s) Being Reviewed by the Federal Communications Commission for Extension Under Delegated Authority, Comments Requested

July 31, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 6, 2000. If you anticipate that you will be submitting comments, but find it difficult to do so within the period of time allowed by this notice, you should advise the contact listed below as soon as possible.

ADDRESS: Direct all comments to Les Smith, Federal Communications Commissions, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0790.

Title: Availability of Inside Wiring Information—Section 68.110(c).

Form No.: N/A.

Type of Review: Extension.

Respondents: Business or Other for Profit.

Number of Respondents: 1200.

Estimated Time Per Response: 1 Hour (avg.).

Total Annual Burden: 1200 Hours.

Estimated Annual Reporting and Recordkeeping Cost Burden: $5000.

Frequency of Response: On occasion.

Needs and Uses: Pursuant to Section 68.110(c) telephone companies must provide building owners with all available information regarding carrier-installed wiring on the customer's side of the demarcation point, including copies of existing schematic diagrams and service records. The information must be provided by the telephone company upon request of the building owner or agent thereof. The telephone company must charge the building owner a reasonable fee for this service, which shall not exceed the cost involved in locating and copying the documents. In the alternative, the telephone company may make these documents available for review and copying by the building owner. In this case, the telephone company may charge a reasonable fee, which shall not exceed the cost involved in making the documents available, and may also require the building owner to pay a deposit to guarantee the documents' return.

OMB Control No.: 3060-0791.

Title: Accounting for Judgments and Other Costs Associated with Litigation, CC Docket No. 93-40.

Form No.: N/A.

Type of Review: Extension.

Respondents: Business or Other for Profit.

Number of Respondents: 1.

Estimated Time Per Response: 36 Hours (avg.).

Total Annual Burden: 36 Hours.

Estimated Annual Reporting and Recordkeeping Cost Burden: $0.

Frequency of Response: On occasion.

Needs and Uses: In CC Docket No. 93-240, the Commission considers the issue of the accounting rules and ratemaking policies that should apply to litigation costs incurred by carriers subject to Part 32 of its rules and regulations. The Commission determined that there should be special rules to govern the accounting treatment of federal antitrust judgements and settlements, in excess of avoided costs of litigation, but not for litigation expenses. The Commission concluded that these special rules should not apply to costs arising in other kinds of litigation. To receive recognition of its avoided costs of litigation, a carrier must make a demonstration.

OMB Control No.: 3060-0933.

Title: Community Broadband Deployment Database Reporting Form.

Form No.: FCC Form 460.

Type of Review: Extension.

Respondents: State, Local or Tribal Government; not for profit institutions; Number of Respondents: 30.

Estimated Time Per Response: .25 Hour (avg.).

Total Annual Burden: 7.5 Hours.

Estimated Annual Reporting and Recordkeeping Cost Burden: $0.

Frequency of Response: On occasion.

Needs and Uses: Pursuant to 47 USC Section 410(b) , on October 8, 1999, the FCC convened a Federal-State Joint conference on Advanced Telecommunications Services to provide a forum for cooperative dialogue and information exchange between and among state and federal jurisdictions regarding the deployment of advanced telecommunications services. As part of this ongoing effort, a searchable on-line database of community broadband demand aggregation and deployment efforts was established.

Federal Communications Commission
Magalie Roman Salas,
Secretary.

[FR Doc. 00-19889 Filed 8-4-00; 8:45 am]

BILLING CODE 6712-01-P